DEPARTMENT OF DEFENSE

Office of the Secretary

Availability of the Fiscal Year 2008 United States Special Operations Command (USSOCOM) Inventory List of Contracts for Services

AGENCY: United States Special Operations Command (USSOCOM), DoD.

ACTION: Notice of availability.

SUMMARY: In accordance with section 2330a of Title 10 United States Code as amended by the National Defense Authorization Act for Fiscal Year 2008 (NDAA 08) Section 807, the Director of Procurement USSOCOM and the Office of the Director, Defense Procurement and Acquisition Policy, Office of Strategic Sourcing (DPAP/SS) will make available to the public the first inventory of activities performed pursuant to contracts for services. The inventory will be published to the USSOCOM public portal Web site at the following location: http://www.socom.mil/soal/Selling%20to%20SOCOM%20Document%20Library/USSOCOM_FY_2008_Inventory_List_of_Contracts_for_Services.pdf.

DATES: Inventory to be made publically available within 30 days after publication of this notice.

ADDRESSES: Send written comments and suggestions concerning this inventory to Brad Grimm, Procurement Analyst, SORDAC-KM, 7701 Tampa Point Blvd., MacDill AFB, FL 33621-5323.

FOR FURTHER INFORMATION CONTACT: Brad Grimm at (813) 826-6797 or e-mail bradley.grimm.ctr@socom.mil.

Dated: October 28, 2009.
Patricia L. Toppings,
OSD Federal Register Liaison Officer, Department of Defense.

[FR Doc. E9-26493 Filed 11-3-09; 8:45 am]

BILLING CODE 5001-06-P